DEPARTMENT OF THE INTERIOR

National Park Service

[2253-665]

Notice of Inventory Completion: Office of the State Archaeologist, Michigan Historical Center, Lansing, MI

AGENCY: National Park Service, Interior.

ACTION: Notice.

SUMMARY: The Office of the State Archaeologist, Michigan Historical Center has completed an inventory of human remains and associated funerary objects, in consultation with the appropriate Indian Tribes, and has determined that there is no cultural affiliation between the remains and associated funerary objects and any present-day Indian Tribe. Representatives of any Indian Tribe that believes itself to be culturally affiliated with the human remains and associated funerary objects may contact the Office of the State Archaeologist, Michigan Historical Center. Disposition of the human remains to the Indian Tribe stated below may occur if no additional requestors come forward.

DATES: Representatives of any Indian Tribe that believes it has a cultural affiliation with the human remains and/or associated funerary objects should contact the Office of the State Archaeologist, Michigan Historical Center at the address below by April 14, 2011.

ADDRESSES: Scott M. Grammer, Michigan State Historic Preservation Office, P.O. Box 30740, 702 W. Kalamazoo St., Lansing, MI 48909-8240, telephone (517) 373-4765.

SUPPLEMENTARY INFORMATION: Notice is here given in accordance with the Native American Graves Protection and Repatriation Act (NAGPRA), 25 U.S.C. 3003, of the completion of an inventory of human remains and associated funerary objects in the possession of the Office of the State Archaeologist, Michigan Historical Center, Lansing, MI. The human remains and associated funerary objects were removed from Fayette Historic State Park (20DE19), Delta County, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Office of the State Archaeologist professional staff in consultation with representatives of the Bad River Band of the Lake Superior Tribe of Chippewa Indians of the Bad River Reservation, Wisconsin; Bay Mills Indian Community, Michigan; Bois Forte Band (Nett Lake) of the Minnesota Chippewa Tribe, Minnesota; Chippewa-Cree Indians of the Rocky Boy's Reservation, Montana; Fond du Lac Band of the Minnesota Chippewa Tribe, Minnesota; Grand Portage Band of the Minnesota Chippewa Tribe, Minnesota; Grand Traverse Band of Ottawa and Chippewa Indians, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians, Michigan; Leech Lake Band of the Minnesota Chippewa Tribe, Minnesota; Little River Band of Ottawa Indians, Michigan; Little Traverse Bay Bands of Odawa Indians, Michigan; Menominee Indian Tribe of Wisconsin; Mille Lacs Band of the Minnesota Chippewa Tribe, Minnesota; Minnesota Chippewa Tribe, Minnesota; Ottawa Tribe of Oklahoma; Red Cliff Band of Lake Superior Chippewa Indians of Wisconsin; Red Lake Band of Chippewa Indians, Minnesota; St. Croix Chippewa Indians of Wisconsin; Saginaw Chippewa Indian Tribe of Michigan; Sault Ste. Marie Tribe of Chippewa Indians of Michigan; Sokaogon Chippewa Community, Wisconsin; Turtle Mountain Band of Chippewa Indians of North Dakota; and White Earth Band of the Minnesota Chippewa Tribe, Minnesota (hereinafter referred to as “The Tribes”).

On October 21, 2010, the Office of the State Archaeologist received a letter from the Sault Ste. Marie Tribe of Chippewa Indians requesting disposition of the human remains and associated funerary objects from Fayette Historic State Park. However, the associated funerary objects are not part of this disposition. The Little Traverse Bay Bands of Odawa Indians expressed interest in the remains, but had no objections to the disposition to the Sault Ste. Marie Tribe of Chippewa Indians and did not submit a request for disposition. No objections or other disposition requests from the Indian Tribes that have Delta County, MI, as their aboriginal land have been received.

History and Description of the Remains

In 1972, human remains representing a minimum of seven individuals were removed from Fayette State Historic Park, in Delta County, MI, by Dr. Marla Buckmaster, an archeologist at Northern Michigan University, in cooperation with State park officials. In 1993, Dr. Buckmaster transferred the remains and entire assemblage, except for some potsherds, to the Office of the State Archaeologist, which manages cultural resources on State-owned lands. No known individuals were identified. No associated funerary objects are being transferred.

Prior to 1972, a cranium at the base of a cliff found by a visitor to the Fayette State Historic Park was sent to the University of Michigan; this cranium is not part of the Office of the State Archaeologist's collection. Later, park officials determined that human remains were eroding out of a small cave in the cliff, about 20 feet above the shoreline of Snailshell Harbor. Dr. Buckmaster found that the human remains were incomplete secondary burials covered with a layer of rocks. The mandibles were lying together in a niche at the back of the shallow cave. It is likely that part of the cave and some of the human remains were destroyed either by erosion or by quarrying that took place on the cliff in the 19th century. The use of caves for burial was a practice of Native Americans in the Upper Peninsula of Michigan for at least 2,000 years. A Middle Woodland camp is located across the harbor from the burial cave at Fayette State Historic Park. The types of funerary objects found in the cave are consistent with the Middle Woodland period (circa 100 B.C. to circa 400 A.D.). In 1994, David Barondess, physical anthropologist at Michigan State University, examined the remains and found that some of the teeth were shovel-shaped incisors.

In 1986, human remains representing a minimum of one individual were removed from Fayette State Historic Park, in Delta County, MI. The remains were limited to a few fragments that were unearthed while archeologists from the Office of the State Archaeologist were looking for the former porch foundations on the mid-19th century Supervisor's House, a historic building in the park. In 2001, one additional bone was found while working on the foundation of House 3, another historic structure close to the Supervisor's House. It is uncertain if these remains are from the same individual, but the single additional bone may be associated with the 1986 fragments based on its proximity to them. Therefore, the park believes that the 1986 fragments and 2001 bone belong to one individual. No known individual was identified. No associated funerary objects are present.

The earliest known Euro-American settlement in this location dates to the mid-19th century. The bones were included in soil that had been disturbed when the foundation of the Supervisor's House was built in the 1860s. This suggests that house construction had damaged all or part of an older grave. The condition of the bones suggested great age. A Middle Woodland camp was located on this side of the park, and Middle Woodland burials were found in a cave across the harbor. It seems likely that the human remains around the two houses date to the same period, and, therefore, are Native American. At the time the human remains were removed, the land was the property of the State of Michigan.

Determinations Made by the Office of the State Archaeologist

Officials of the Office of the State Archaeologist have determined that:

• For the human remains removed in 1972, the burial practices, types of funerary objects, and the shovel-shaped incisors are all indicative of Native American remains. For the human remains removed in 1986 and 2001, based on the manner of disturbance, age of the remains, proximity and location, the remains are believed to represent one Native American individual.

• Pursuant to 25 U.S.C. 3001(2), a relationship of shared group identity cannot be reasonably traced between the Native American human remains and associated funerary objects and any present-day Indian Tribe.

• At the time the remains were removed, the sites were on State-owned land within the aboriginal territory of The Tribes, as indicated by 19th-century treaties (see “Present-Day Tribes Associated with Indian Land Cessions 1784-1894” database on the National Park Service's National NAGPRA Program Web site.)

• Pursuant to 25 U.S.C. 3001(9), the human remains described above represent the physical remains of a minimum of eight individuals of Native American ancestry.

• Pursuant to 43 CFR 10.11(c)(1), the disposition of the human remains is to the Sault Ste. Marie Tribe of Chippewa Indians of Michigan.

Additional Requestors and Disposition

Representatives of any Indian Tribe that believes itself to be culturally affiliated with the human remains and/or associated funerary objects, or any other Indian Tribe that believes it satisfies the criteria in 43 CFR 10.11(c)(1) should contact the Office of the State Archaeologist's representative, Scott M. Grammer, Michigan State Historic Preservation Office, P.O. Box 30740, 702 W. Kalamazoo St., Lansing, MI 48909-8240, telephone (517) 373-4765, before April 14, 2011. Disposition of the human remains to the Sault Ste. Marie Tribe of Chippewa Indians of Michigan may proceed after that date if no additional requestors come forward.

The Office of the State Archaeologist is responsible for notifying The Tribes that this notice has been published.

Dated: March 9, 2011.
Sherry Hutt,
Manager, National NAGPRA Program.

[FR Doc. 2011-5866 Filed 3-14-11; 8:45 am]

BILLING CODE 4312-50-P